DEPARTMENT OF COMMERCE

National Oceanic and Atmospheric Administration

[RTID 0648-XE652]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (SAFMC; Council) will hold a meeting of its Citizen Science Projects Advisory Panel (AP) via webinar.

DATES: The Citizen Science Projects AP meeting will be held via webinar on Tuesday, March 11, 2025, from 9 a.m. until 12 p.m.

ADDRESSES: The meeting will be held via webinar. The webinar is open to members of the public. Webinar registration, an online public comment form, and briefing book materials will be available 2 weeks prior to the meeting at: https://safmc.net/advisory-panel-meetings/. There will be an opportunity for public comment at the beginning of the meeting.

Council address: South Atlantic Fishery Management Council, 4055 Faber Place Drive, Suite 201, N Charleston, SC 29405.

FOR FURTHER INFORMATION CONTACT: Julia Byrd, Citizen Science Program Manager, SAFMC; phone: (843) 302-8439 or toll free: (866) SAFMC-10; fax: (843) 769-4520; email: julia.byrd@safmc.net.

SUPPLEMENTARY INFORMATION: The Citizen Science Projects AP members include representatives from the Council's fishery advisory panels (AP), Habitat & Ecosystem AP, and Outreach and Communications AP. Their responsibilities include identifying citizen science research and data needs across all the Council's fishery management plans; assisting with development of volunteer engagement strategies for recruiting, training, retaining, and communicating with volunteers; and serving as outreach ambassadors for the Program.

Agenda items include: an update on Citizen Science Program and Project activities; discussion on ways to promote the Citizen Science Project Idea Portal; and the Citizen Science Program's initial evaluation plan, including researchers presenting their findings to help establish baseline levels of knowledge about, confidence in, and trust in the citizen science process of collecting data to inform fisheries management with panel discussion on ways to refine the Program based on these results; and other business.

Special Accommodations

The meeting is physically accessible to people with disabilities. Requests for auxiliary aids should be directed to the Council office (see ADDRESSES) 5 days prior to the meeting.

Note: The times and sequence specified in this agenda are subject to change.

(Authority: 16 U.S.C. 1801 et seq.)

Dated: February 18, 2025.
Alyssa Weigers,
Acting Deputy Director, Office of Sustainable Fisheries, National Marine Fisheries Service.

[FR Doc. 2025-02948 Filed 2-21-25; 8:45 am]

BILLING CODE 3510-22-P